ENVIRONMENTAL PROTECTION AGENCY

[FRL-6843-6]

Notification of Additional Public Listening Session on the Draft Title VI Guidance Documents

AGENCY: Environmental Protection Agency (EPA).

ACTION: Notice of public listening session.

SUMMARY: This notice announces the addition of a seventh public listening session on the draft Title VI guidance documents. On June 27, 2000, EPA published a Federal Register notice (65 FR 39649) containing two draft Title VI guidance documents for public comment regarding Title VI of the Civil Rights Act of 1964. The first document is entitled the Title VI Guidance for EPA Assistance Recipients Administering Environmental Permitting Programs (“Draft Recipient Guidance”). The second document is entitled the Draft Revised Guidance for Investigating Title VI Administrative Complaints Challenging Permits (“Draft Revised Investigation Guidance”).

EPA previously announced that six public listening sessions would be held to receive comments on the draft Title VI guidance documents. The first public listening session, held in the mid-Atlantic area, occurred the day before the documents were published in the Federal Register. In an effort to allow the public the opportunity to review the draft documents prior to attending a listening session, EPA will hold another session in that region.

The meeting will be held on Wednesday, August 9, 2000, from 4:00 p.m. to 7:00 p.m. in the Shenandoah Room (4th floor) of the U.S. Environmental Protection Agency Region 3 office located at 1650 Arch Street in Philadelphia, PA. Consistent with the other listening sessions, this meeting will be attended by the Director of the Office of Civil Rights and key regional personnel. Members of the public wishing to make oral comments during the public listening session will be limited to not more than five (5) minutes and must register at the meeting site the day of the conference. Seating will be limited and available on a first come, first-served basis. If anyone attending the listening session needs special accommodations (i.e., sign language interpreter, alternative text format for materials), please contact Mavis Sanders of the EPA Office of Civil Rights (OCR) at (202) 564-7272 at least three business days before the EPA listening session.

DATES: The meeting will be held on August 9, 2000.

ADDRESSES: The meeting will be held from 4:00 p.m. to 7:00 p.m. in the Shenandoah Room (4th floor) of the U.S. Environmental Protection Agency Region 3 office located at 1650 Arch Street, Philadelphia, PA.

FOR FURTHER INFORMATION CONTACT: Mavis Sanders, U.S. Environmental Protection Agency, Office of Civil Rights (1201A), 1200 Pennsylvania Avenue, NW, Washington, DC, 20460, telephone (202) 564-7272.

SUPPLEMENTARY INFORMATION: All comments on the draft Title VI guidance documents must be received in writing by EPA before August 28, 2000. Comments received by the Agency will be carefully considered in the revision of the draft guidance documents. Public comments should be mailed to: Title VI Guidance Comments, Office of Civil Rights (1201A), 1200 Pennsylvania Avenue NW, Washington DC, 20460, or submitted to the following e-mail address: civilrights@epa.gov. Please include your name and address, and, optionally, your affiliation.

Information regarding the other public listening sessions, a current list of scheduled outreach activities, as well as the June 27, 2000, Federal Register notice containing the draft guidance documents is available on the EPA OCR Web site at www.epa.gov/civilrights.

Dated: July 26, 2000.
Ann E. Goode,
Director, Office of Civil Rights.

[FR Doc. 00-19377 Filed 7-31-00; 8:45 am]

BILLING CODE 6560-50-P